DEPARTMENT OF THE TREASURY

Office of Foreign Assets Control

Sanctions Actions Pursuant to Executive Order of March 8, 2015, “Blocking Property and Suspending Entry of Certain Persons Contributing to the Situation in Venezuela”

AGENCY: Office of Foreign Assets Control, Department of the Treasury.

ACTION: Notice.

SUMMARY: The U.S. Department of the Treasury's Office of Foreign Assets Control (OFAC) is publishing the name of a person whose property and interests in property are blocked pursuant to the Executive Order of March 8, 2015, “Blocking Property and Suspending Entry of Certain Persons Contributing to the Situation in Venezuela.”

DATES: OFAC's actions described in this notice were applicable on July 31, 2017.

FOR FURTHER INFORMATION CONTACT: Associate Director for Global Targeting, tel.: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410 (not toll free numbers).

SUPPLEMENTARY INFORMATION:

Electronic Availability

The list of Specially Designated Nationals and Blocked Persons (SDN List) and additional information concerning OFAC sanctions programs are available on OFAC's Web site at http://www.treasury.gov/ofac.

Notice of OFAC Actions

On July 31, 2017, OFAC's Director determined that the property and interests in property of the following person are blocked pursuant to Executive Order 13692 of March 8, 2015, “Blocking Property and Suspending Entry of Certain Persons Contributing to the Situation in Venezuela” (E.O. 13692). The OFAC Director designated this person under section 1(a)(ii)(C) of E.O. 13692 for being a current or former official of the Government of Venezuela.

1. MADURO MOROS, Nicolas (Latin: MADURO MOROS, Nicolás), Caracas, Capital District, Venezuela; DOB 23 Nov 1962; POB Caracas, Venezuela; citizen Venezuela; Gender Male; Cedula No. 5892464 (Venezuela); President of the Bolivarian Republic of Venezuela (individual) [VENEZUELA]. Designated pursuant to section 1(a)(ii)(C) of E.O. 13692 for being a current or former official of the Government of Venezuela.

Dated: July 31, 2017.
John E. Smith,
Director, Office of Foreign Assets Control.

[FR Doc. 2017-16419 Filed 8-8-17; 8:45 am]

BILLING CODE 4810-AL-P